NUCLEAR REGULATORY COMMISSION

[NRC-2010-0002]

Sunshine Act Meeting Notice

DATES: Weeks of February 8, 15, 22, March 1, 8, 15, 2010.

Place: Commissioners' Conference Room, 11555 Rockville Pike, Rockville, Maryland.

Status: Public and Closed.

Week of February 8, 2010

Tuesday, February 9, 2010

9:30 a.m. Briefing on Regional Programs—Programs, Performance, and Future Plans (Public Meeting). (Contact: Richard Barkley, 610-337-5065.)

This meeting will be webcast live at the Web address— http://www.nrc.gov.

Week of February 15, 2010—Tentative

Thursday, February 18, 2010

9:30 a.m. Briefing on Office of Nuclear Regulatory Research—Programs, Performance, and Future Plans (Public Meeting). (Contact: Patricia Santiago, 301-251-7982.)

This meeting will be webcast live at the Web address— http://www.nrc.gov.

Week of February 22, 2010—Tentative

Tuesday, February 23, 2010

9:30 a.m. Briefing on Decommissioning Funding (Public Meeting). (Contact: Thomas Fredrichs, 301-415-5971.)

This meeting will be webcast live at the Web address— http://www.nrc.gov.

Week of March 1, 2010—Tentative

Tuesday, March 2, 2010

9:30 a.m. Briefing on Uranium Recovery (Public Meeting). (Contact: Dominick Orlando, 301-415-6749.)

This meeting will be webcast live at the Web address— http://www.nrc.gov.

Week of March 8, 2010—Tentative

There are no meetings scheduled for the week of March 8, 2010.

Week of March 15, 2010—Tentative

Tuesday, March 16, 2010

1:30 p.m. Joint Meeting of the Federal Energy Regulatory Commission and the Nuclear Regulatory Commission on Grid Reliability (Public Meeting). (Contact: Kenn Miller, (301) 415-3152.)

This meeting will be webcast live at the Web address— http://www.nrc.gov.

* * * * *

* The schedule for Commission meetings is subject to change on short notice. To verify the status of meetings, call (recording)—(301) 415-1292. Contact person for more information: Rochelle Bavol, (301) 415-1651.

* * * * *

The NRC Commission Meeting Schedule can be found on the Internet at: http://www.nrc.gov/about-nrc/policy-making/schedule.html.

* * * * *

The NRC provides reasonable accommodation to individuals with disabilities where appropriate. If you need a reasonable accommodation to participate in these public meetings, or need this meeting notice or the transcript or other information from the public meetings in another format (e.g. braille, large print), please notify Angela Bolduc, Chief, Employee/Labor Relations and Work Life Branch, at 301-492-2230, TDD: 301-415-2100, or by e-mail at angela.bolduc@nrc.gov. Determinations on requests for reasonable accommodation will be made on a case-by-case basis.

* * * * *

This notice is distributed electronically to subscribers. If you no longer wish to receive it, or would like to be added to the distribution, please contact the Office of the Secretary, Washington, DC 20555 (301-415-1969), or send an e-mail to darlene.wright@nrc.gov.

Dated: February 4, 2010.
Rochelle C. Bavol,
Office of the Secretary.

[FR Doc. 2010-2964 Filed 2-5-10; 4:15 pm]

BILLING CODE 7590-01-P